SURFACE TRANSPORTATION BOARD

[Docket No. FD 36378]

The Mahoning Valley Railway Company—Acquisition and Operation—L.W.R., Inc. and OHI-Rail Corp.

The Mahoning Valley Railway Company (MVRY), a Class III rail carrier, has filed a verified notice of exemption under 49 CFR 1150.41 to acquire from L.W.R., Inc. (LRW) and OHI-Rail Corp. (OHI-Rail) and operate approximately 44.7 miles of the following lines of railroad in Carroll, Stark, Columbiana, Jefferson, and Harrison Counties, Ohio: (1) The Tuscarawas Industrial Track LC 40-2427, from milepost 0.0 at the point of connection to the Bayard siding in Bayard to milepost 2.9, located 175 feet west of Grant Street in Minerva, including an operating easement between mileposts 2.7 and 2.9; (2) the Piney Fork Industrial Track LC 40-2446, from milepost 40.9 in Minerva to milepost 43.5 including all track, facilities, and property comprising Minerva Yard; (3) the Horn Track, a short connecting track between the Tuscarawas Industrial Track and the Piney Fork Industrial Track, between Grant Street and Sandy Creek Bridge; (4) a continuous line of track from the Minerva Yard limits at milepost 43.50 in Minerva to Hopedale Junction at milepost 77.50; (5) the Wolf Run Branch LC 2449, beginning in Springfield Township (Phillips), Jefferson County, at milepost 0.0 and extending in a general southerly direction to its end at milepost 3.8; and (6) the Tuscarawas Secondary Track LC 2427 beginning in Minerva at a point approximately 175 feet west of milepost 2.7 and extending in a general westerly direction through Pekin to its ending in Pekin at milepost 4.3 (collectively, the Lines). According to MVRY, segments (1), (2), and (3) are owned by LWR and operated by OHI-Rail, and MVRY will acquire the segments by purchase, while segments (4), (5), and (6) are leased by OHI-Rail from the State of Ohio, Ohio Rail Development Commission, and MVRY will acquire the segments by assignment of the lease (Leased Lines).¹

¹ The verified notice states that MVRY is a subsidiary of Genesee & Wyoming Inc. (GWI). It further states that GWI, LWR, and OHI-Rail have executed an Asset Purchase Agreement (Agreement) for the Lines, and that, prior to consummating the acquisition, GWI will assign its rights and obligations under the Agreement to MVRY. As a result, MVRY states, GWI will not acquire the Lines and is not the applicant here.

MVRY certifies that its projected annual revenues as a result of this transaction will not exceed those that would qualify it as a Class III rail carrier and will not exceed $5 million annually. MVRY further certifies that the acquisition does not involve an interchange commitment.

Under 49 CFR 1150.42(b), a change in operator requires that notice be given to shippers. MVRY states that notice of the proposed transaction was provided to shippers on the Leased Lines on January 31, 2020.

The transaction may be consummated on or after March 1, 2020, the effective date of the exemption (30 days after the verified notice was filed).²

² Because MVRY supplemented its verified notice on January 31, 2020, that date will be considered the filing date for the purpose of calculating the effective date of the exemption.

If the verified notice contains false or misleading information, the exemption is void ab initio. Petitions to revoke the exemption under 49 U.S.C. 10502(d) may be filed at any time. The filing of a petition to revoke will not automatically stay the effectiveness of the exemption. Petitions to stay must be filed no later than February 21, 2020 (at least seven days before the exemption becomes effective).

All pleadings, referring to Docket No. FD 36378, must be filed with the Surface Transportation Board either via e-filing or in writing addressed to 395 E Street SW, Washington, DC 20423-0001. In addition, a copy of each pleading must be served on MVRY's representative, Eric M. Hocky, Clark Hill, PLC, Two Commerce Square, 2001 Market St., Suite 2620, Philadelphia, PA 19103.

Board decisions and notices are available at www.stb.gov.

Decided: February 10, 2020.
By the Board, Allison C. Davis, Director, Office of Proceedings.
Eden Besera,
Clearance Clerk.

[FR Doc. 2020-03006 Filed 2-13-20; 8:45 am]

BILLING CODE 4915-01-P